DEPARTMENT OF THE TREASURY

Submission for OMB Review; Comment Request

AGENCY: Department of the Treasury.

ACTION: Notice.

SUMMARY: The Department of the Treasury will submit the following information collection request to the Office of Management and Budget (OMB) for review and clearance in accordance with the Paperwork Reduction Act of 1995, Public Law 104-13, on or after the date of publication of this notice.

DATES: Comments should be received on or before April 27, 2015 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission may be obtained by emailing PRA@treasury.gov, calling (202) 927-5331, or viewing the entire information collection request at www.reginfo.gov.

SUPPLEMENTARY INFORMATION:

Bureau of the Fiscal Service (FS)

OMB Number: 1530—New.

Type of Review: New collection.

Title: Analysis to Support Electronic Funds Transfer and Remittance Mandate.

Abstract: The Bureau of the Fiscal Service is proposing to amend regulations (31 CFR part 206) that would require the public to make non-tax payments and remittances using electronic methods. This collection will inform and benefit economic analyses required by EO 12866 and 5 U.S.C. 601-612 and support development of a Notice of Public Rulemaking.

Affected Public: Individuals or Households.

Estimated Annual Burden Hours: 330.

Dated: March 24, 2015.
Dawn D. Wolfgang,
Treasury PRA Clearance Officer.

[FR Doc. 2015-07063 Filed 3-26-15; 8:45 am]

BILLING CODE 4810-AS-P